DEPARTMENT OF HEALTH AND HUMAN SERVICES

National Institutes of Health

Center for Scientific Review; Amended Notice of Meeting

Notice is hereby given of a change in the meeting of the Molecular and Integrative Signal Transduction Study Section, October 2, 2008, 8 a.m. to October 3, 2008, 5:30 p.m., Sheraton Delfina Santa Monica Hotel, 530 West Pico Boulevard, Santa Monica, CA 90405 which was published in the Federal Register on August 18, 2008, 73 FR 48219-48220.

The meeting will be held one day only October 2, 2008. The meeting time and location remain the same. The meeting is closed to the public.

Dated: September 3, 2008.
Jennifer Spaeth,
Director, Office of Federal Advisory Committee Policy.

[FR Doc. E8-20908 Filed 9-9-08; 8:45 am]

BILLING CODE 4140-01-M